DEPARTMENT OF HOMELAND SECURITY

Federal Emergency Management Agency

[Docket ID: FEMA-2022-0014; OMB No. 1660-0073]

Agency Information Collection Activities: Submission for OMB Review; Comment Request; National Urban Search and Rescue Response System

AGENCY: Federal Emergency Management Agency, Department of Homeland Security.

ACTION: 30 Day Notice of Revision and Request for Comments.

SUMMARY: The Federal Emergency Management Agency (FEMA) will submit the information collection abstracted below to the Office of Management and Budget for review and clearance in accordance with the requirements of the Paperwork Reduction Act of 1995. This notice seeks comments concerning the National Urban Search and Rescue Response System to perform work on public or private lands essential to save lives and protect property, including search and rescue and emergency medical care, and other essential needs. FEMA will remove one instrument from this collection.

DATES: Comments must be submitted on or before July 29, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Buddy Ey, Chief, Finance and Administration Section, US&R Branch, FEMA, Response Directorate, Operations Division at elwood.ey-iii@fema.dhs.gov or (202) 212-3799.

SUPPLEMENTARY INFORMATION: Section 303 of the Robert T. Stafford Disaster Relief and Emergency Assistance Act (Stafford Act), 42 U.S.C. 5144, authorizes the President of the United States to form emergency support teams of Federal personnel to be deployed to an area affected by major disaster or emergency. Section 403(a)(3)(B) of the Stafford Act provides that the President may authorize Federal Departments and Agencies to perform work on public or private lands essential to save lives and protect property, including search and rescue and emergency medical care, and other essential needs. Section 327 of the Stafford Act further authorizes the National Urban Search and Rescue Response System (“the System”) and outlines the Administrator's authorization to designate teams as well as outlines specific protections for System members. The information collection activity is authorized under the Office of Management and Budget circular, 2 CFR part 200, “Uniform Administrative Requirements, Cost Principles, and Audit Requirements for Federal Awards.” The collection contains information from the programmatic and administrative activities of the Urban Search and Rescue Sponsoring Agencies relating to the readiness and response cooperative agreement awards.

FEMA will remove one instrument from this collection: FEMA Form 089-0-15, Task Force Deployment Data.

This proposed information collection previously published in the Federal Register on April 22, 2022, at 87 FR 24189 with a 60-day public comment period. No comments were received. The purpose of this notice is to notify the public that FEMA will submit the information collection abstracted below to the Office of Management and Budget for review and clearance.

Collection of Information

Title: National Urban Search and Rescue Response System.

Type of Information Collection: Extension, with change, of a currently approved information collection.

OMB Number: 1660-0073.

FEMA Forms: FEMA Form FF-104-FY-21-174 (formerly 089-0-10), Urban Search Rescue Response System Narrative Statement Workbook; FEMA Form FF-104-FY-21-175 (formerly 089-0-11), Urban Search Rescue Response System Semi-Annual Performance Report; FEMA Form FF-104-FY-21-176 (formerly 089-0-12), Urban Search Rescue Response System Amendment Form; FEMA Form FF-104-FY-21-177 (formerly 089-0-14), Urban Search Rescue Response System Task Force Self-Evaluation Scoresheet; FEMA Form FF-104-FY-21-179 (formerly 089-0-26), Vehicle Support Unit Purchase/Replacement/Disposal Justification.

Abstract: The information collection activity is the collection of program and administrative information from 28 established Urban Search and Rescue Sponsoring Agencies relating to the Readiness and Response Cooperative Agreement awards. This information includes a narrative statement used to evaluate a grantees' proposed use of funds, progress reports to monitor progress on Cooperative Agreements, amendment requests to change scope and period of performance and approval for vehicle purchase.

Affected Public: State, Local, or Tribal Government.

Estimated Number of Respondents: 126.

Estimated Number of Responses: 182.

Estimated Total Annual Burden Hours: 364.

Estimated Total Annual Respondent Cost: $23,277.

Estimated Respondents' Operation and Maintenance Costs: $0.

Estimated Respondents' Capital and Start-Up Costs: $0.

Estimated Total Annual Cost to the Federal Government: $135,866.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director for Information Management, Office of the Chief Administrative Officer, Mission Support, Federal Emergency Management Agency, Department of Homeland Security.

[FR Doc. 2022-13874 Filed 6-28-22; 8:45 am]

BILLING CODE 9111-54-P